DEPARTMENT OF LABOR

Employment and Training Administration

[NAFTA-5039]

Louisiana Pacific Corporation Rogue River, OR; Notice of Termination of Investigation

Pursuant to title V of the North American Free Trade Agreement Implementation Act (P.L. 103-182) concerning transitional adjustment assistance, hereinafter called (NAFTA-TAA), and in accordance with section 250(a), subchapter D, chapter 2, title II, of the Trade Act of 1974, as amended (19 U.S.C. 2273), an investigation was initiated on June 22, 2001 in response to a petition filed on behalf of workers at Louisiana Pacific Corporation, Rogue River, Oregon.

This case is being terminated because there is a petition investigation in process for this worker group, NAFTA-5001. Consequently, further investigation in this case would serve no purpose, and the investigation has been terminated.

Signed at Washington, DC, this 20th day of August 2001.
Linda G. Poole,
Certifying Officer, Division of Trade Adjustment Assistance.

[FR Doc. 01-22692 Filed 9-10-01; 8:45 am]

BILLING CODE 4510-30-M